DEPARTMENT OF LABOR

Employment and Training Administration

[TA-W-57,092]

First Inertia Switch, Grand Blanc, Michigan; Notice of Termination of Investigation

Pursuant to Section 221 of the Trade Act of 1974, as amended, an investigation was initiated on May 3, 2005 in response to a worker petition filed by a company official on behalf of workers at First Inertia Switch, Grand Blanc, Michigan.

The petitioner has requested that the petition be withdrawn. Consequently, the investigation has been terminated.

Signed at Washington, DC this 19th day of May 2005.
Richard Church,
Certifying Officer, Division of Trade Adjustment Assistance.

[FR Doc. E5-2806 Filed 6-1-05; 8:45 am]

BILLING CODE 4510-30-P